DEPARTMENT OF HEALTH AND HUMAN SERVICES

Centers for Disease Control and Prevention

National Institute for Occupational Safety and Health: Meeting

The National Institute for Occupational Safety and Health: (NIOSH) of the Centers for Disease Control and Prevention (CDC) announces the following meeting:

Name: Priorities, strategies and methods for long-term health monitoring of World Trade Center exposed rescue, recovery and restoration workers and volunteers.

Time and Date: 9:30 a.m.-4:30 p.m., May 2, 2003.

Place: New York Academy of Medicine, 1216 Fifth Avenue (corner of 103rd St.), NY, NY 10029, (212) 822-7200. Directions are available at http://www.nyam.org/directions.shtml.

Status: Open to the public, limited only by space available. Seating will be limited to approximately 75 people. Due to limited conference space, notification of intent to attend the meeting must be made with Ms. Lou Bagley at (513) 841-4336 or e-mail lbagley@cdc.gov. Requests to attend will be accommodated on a first come basis.

Purpose: To request public assistance in identifying the needs, issues, and priorities for providing long-term medical monitoring to emergency response personnel who responded to the September 11, 2001, terrorist attacks at the World Trade Center, and personnel who participated in the recovery and restoration efforts at the World Trade Center site or at the Staten Island Landfill.

Public Law 108-7 directs the Federal Emergency Management Agency (FEMA), now part of Emergency Preparedness and Response Directorate, Department of Homeland Security, to make available $90 million from funds appropriated to FEMA in Public Law 107-117 to administer baseline and follow-up screening, clinical examinations, long-term health monitoring and analysis for emergency services, rescue and recovery personnel who responded to the terrorist attacks in New York City. For such services, Public Law 108-7 further directs FEMA to make available not less than $25 million from this amount for current and retired New York City firefighters. FEMA will be providing the $90 million in appropriated funds to NIOSH to oversee the development and funding of this long-term medical monitoring program. NIOSH now is requesting input from the public in determining priorities for use of these funds.

Contact Persons for Additional Information: Sherry Baron, MD, MPH, NIOSH, CDC, 4676 Columbia Parkway, M/S R10, Cincinnati, OH 45226-1998, telephone (513) 458-7159, fax (513) 458-7105, e-mail SBaron@cdc.gov.

The Director, Management Analysis and Services Office, has been delegated the authority to sign Federal Register Notices pertaining to announcements of meetings and other committee management activities, for both CDC and the Agency for Toxic Substances and Disease Registry.

Dated: April 8, 2003.
Alvin Hall,
Director, Management Analysis and Services Office, Centers for Disease Control and Prevention.

[FR Doc. 03-9134 Filed 4-14-03; 8:45 am]

BILLING CODE 4163-19-P